DEPARTMENT OF AGRICULTURE

Agricultural Marketing Service

[Docket Number FV-06-306]

United States Standards for Grades of Peppers (Other Than Sweet Peppers)

AGENCY: Agricultural Marketing Service, USDA.

ACTION: Notice.

SUMMARY: The Agricultural Marketing Service (AMS), prior to undertaking research and other work associated with official grade standards, is soliciting comments on the possible development of the United States Standards for Grades of Peppers (Other Than Sweet Peppers). At a meeting with the Fruit and Vegetable Industry Advisory Committee, AMS was asked to identify commodities that may be better served if grade standards are developed. The standards would provide industry with a common language and uniform basis for trading, thus promoting the orderly and efficient marketing of peppers that are not of the sweet pepper type.

DATES: Comments must be received by April 25, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; Fax (202) 720-8871, E-mail FPB.DocketClerk@usda.gov. Comments should make reference to the dates and page number of this issue of the Federal Register and will be made available for public inspection in the above office during regular business hours.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quantity, grade, and packaging, and recommend and demonstrate such standards in order to encourage uniformity and consistency in commercial practices.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is proposing to establish voluntary United States Standards for Grades of Peppers (Other Than Sweet Peppers) using the procedures that appear in part 36, Title 7 of the Code of Federal Regulations (7 CFR part 36).

Background

At a meeting of the Fruit and Vegetable Industry Advisory Committee, AMS was asked to identify fresh fruit and vegetables that may be better served if grade standards are developed. AMS identified certain pepper varieties/types as possibly in need of official grade standards, because they are not included in the current United States Standards for Grades of Sweet Peppers. These varieties/types include all peppers other than sweet peppers. U.S. standards are used by the fresh produce industry to describe the product they are trading, thus facilitating the marketing of the product. The new standards could contain sections pertaining to grades, size classifications, color requirements, tolerances, application of tolerances, pack requirements, definitions, and other relevant and necessary provisions.

Prior to undertaking detailed work to develop standards, AMS is soliciting comments on the possible development of the United States Standards for Grades of Peppers (Other Than Sweet Peppers).

This notice provides for a 60-day comment period for interested parties to comment on the possible development of standards. Should AMS conclude that there is a need for the standards, the proposed standards will be published in the Federal Register with a request for comments in accordance with 7 CFR part 36.

Authority: 7 U.S.C. 1621-1627.

Dated: February 17, 2006.
Lloyd C. Day,
Administrator, Agricultural Marketing Service.

[FR Doc. E6-2652 Filed 2-23-06; 8:45 am]

BILLING CODE 3410-02-P